DEPARTMENT OF HOMELAND SECURITY

Federal Emergency Management Agency

[Docket ID FEMA-2024-0002; Internal Agency Docket No. FEMA-B-2476]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
Arizona:
Gila | City of Globe (23-09-1282P). | The Honorable Al Gameros, Mayor, City of Globe, 150 North Pine Street, Globe, AZ 85501. | City Hall, 150 North Pine Street, Globe, AZ 85501. | https://msc.fema.gov/portal/advanceSearch. | Dec. 12, 2024 | 040029
Gila | Unincorporated Areas of Gila County (23-09-1282P). | Steve Christensen, Chair, Gila County Board of Supervisors, 1400 East Ash Street, Globe, AZ 85501. | Gila County Assessor's Office, 1400 East Ash Street, Globe, AZ 85501. | https://msc.fema.gov/portal/advanceSearch. | Dec. 12, 2024 | 040028
Maricopa | City of Buckeye (24-09-0106P). | The Honorable Eric Orsborn, Mayor, City of Buckeye, 530 East Monroe Avenue, Buckeye, AZ 85326. | Engineering Department, 530 East Monroe Avenue, Buckeye, AZ 85326. | https://msc.fema.gov/portal/advanceSearch. | Nov. 22, 2024 | 040039
Maricopa | City of Scottsdale (23-09-1134P). | The Honorable David D. Ortega, Mayor, City of Scottsdale, 3939 North Drinkwater Boulevard, Scottsdale, AZ 85251. | Planning Records, 7447 East Indian School Road, Suite 100, Scottsdale, AZ 85251. | https://msc.fema.gov/portal/advanceSearch. | Nov. 22, 2024 | 045012
Maricopa | City of Scottsdale (23-09-1358P). | The Honorable David D. Ortega, Mayor, City of Scottsdale, 3939 North Drinkwater Boulevard, Scottsdale, AZ 85251. | Planning Records, 7447 East Indian School Road, Suite 100, Scottsdale, AZ 85251. | https://msc.fema.gov/portal/advanceSearch. | Nov. 22, 2024 | 045012
Maricopa | Unincorporated Areas of Maricopa County (24-09-0106P). | Jack Sellers, Chair, Maricopa County Board of Supervisors, 301 West Jefferson Street, 10th Floor, Phoenix, AZ 85003. | Flood Control District of Maricopa County, 2801 West Durango Street, Phoenix, AZ 85009. | https://msc.fema.gov/portal/advanceSearch. | Nov. 22, 2024 | 040037
Mohave | City of Bullhead City (24-09-0373P). | The Honorable Steve D'Amico, Mayor, City of Bullhead City, 2355 Trane Road, Bullhead City, AZ 86442. | Public Works Department, 2355 Trane Road, Bullhead City, AZ 86442. | https://msc.fema.gov/portal/advanceSearch. | Nov. 25, 2024 | 040125
California: Alameda | City of Alameda (23-09-1261P). | The Honorable Marilyn Ezzy Ashcraft, Mayor, City of Alameda, 2263 Santa Clara Avenue, Alameda, CA 94501. | Public Works Department, 950 West Mall Square Suite 110, Alameda, CA 94501. | https://msc.fema.gov/portal/advanceSearch. | Nov. 20, 2024 | 060002
Connecticut: Fairfield | City of Danbury (23-01-0686P). | The Honorable Roberto Alves, Mayor, City of Danbury, 155 Deer Hill Avenue, Danbury, CT 06810. | City Hall, 155 Deer Hill Avenue, Danbury, CT 06810. | https://msc.fema.gov/portal/advanceSearch. | Nov. 20, 2024 | 090004
Florida:
St. Johns | Unincorporated areas of St. Johns County (24-04-0172P). | Joy Andrews, St. Johns County Administrator, 500 San Sebastian View, St. Augustine, FL 32084. | St. Johns County Permit Center, 4040 Lewis Speedway, St. Augustine, FL 32084. | https://msc.fema.gov/portal/advanceSearch. | Dec. 2, 2024 | 125147
Orange | City of Orlando (24-04-1166P). | The Honorable Buddy Dyer, Mayor, City of Orlando, 400 South Orange Avenue, Orlando, FL 32801. | Permitting Services, 400 South Orange Avenue, 1st Floor, Orlando, FL 32801. | https://msc.fema.gov/portal/advanceSearch. | Dec. 3, 2024 | 120186
Walton | Unincorporated areas of Walton County (24-04-1098P). | Stan Sunday, Walton County Administrator, 76 North 6th Street, DeFuniak Springs, FL 32433. | Walton County Courthouse, 571 U.S. Highway 90 East, DeFuniak Springs, FL 32433. | https://msc.fema.gov/portal/advanceSearch. | Nov. 21, 2024 | 120317
Kansas: Johnson | City of Olathe (23-07-0892P). | The Honorable John Bacon, Mayor, City of Olathe, 100 East Santa Fe Street, Olathe, KS 66061. | Planning Office, 100 East Santa Fe Street, Olathe, KS 66061. | https://msc.fema.gov/portal/advanceSearch. | Nov. 27, 2024 | 200173
Minnesota: Le Sueur | Unincorporated areas of Le Sueur County (24-05-0739P). | Steven J. Rohlfing, Chair, Le Sueur County Board of Commissioners, 28020 Maple Lane, Madison Lake, MN 56063. | Le Sueur County Environmental Services Department, 515 South Maple Avenue, Le Center, MN 56057. | https://msc.fema.gov/portal/advanceSearch. | Nov. 29, 2024 | 120317
Missouri: St. Louis | City of University City (24-07-0245P). | The Honorable Terry Crow, Mayor, City of University City, 6801 Delmar Boulevard, University City, MO 63130. | City Hall, 6801 Delmar Boulevard, University City, MO 63130. | https://msc.fema.gov/portal/advanceSearch. | Nov. 29, 2024 | 290390
Oregon:
Washington | City of Beaverton (24-10-0181P). | The Honorable Lacey Beaty, Mayor, City of Beaverton, 12725 Southwest Millikan Way, Beaverton, OR 97005. | Community Development Department, 12725 Southwest Millikan Way, Beaverton, OR 97005. | https://msc.fema.gov/portal/advanceSearch. | Nov. 22, 2024 | 410240
Washington | Unincorporated Areas of Washington County (24-10-0181P). | Kathryn Harrington, Commissioner, Washington County Board of Commissioners, 155 North 1st Avenue, Hillsboro, OR 97124. | Washington County Public Services Building, 155 North 1st Avenue, Suite 350, Hillsboro, OR 97124. | https://msc.fema.gov/portal/advanceSearch. | Nov. 22, 2024 | 410238
Washington: King | City of Seattle (22-10-0801P). | The Honorable Bruce Harrell, Mayor, City of Seattle, P.O. Box 94749, Seattle, WA 98124. | Department of Construction and Inspections, 700 5th Avenue, Suite 2000, Seattle, WA 98104. | https://msc.fema.gov/portal/advanceSearch. | Nov. 25, 2024 | 530089

[FR Doc. 2024-28588 Filed 12-5-24; 8:45 am]

BILLING CODE 9110-12-P